Title 3—

The President

Proclamation 10685 of December 11, 2023

Suspension of Entry as Immigrants and Nonimmigrants of Persons Enabling Corruption

By the President of the United States of America

A Proclamation

On June 3, 2021, through National Security Study Memorandum 1 (NSSM-1), I established the fight against global corruption as a core national security interest, stating that corruption threatens United States national security, economic equity, global anti-poverty and development efforts, and democracy itself. By effectively preventing and countering corruption and demonstrating the advantages of transparent and accountable governance, we can secure a critical advantage for the United States and other democracies.

On December 6, 2021, pursuant to NSSM-1, my Administration issued the first United States Strategy on Countering Corruption (Strategy), which recognizes the strategic impact of corruption and directs the modernization of our efforts to prevent and combat it. The Strategy also seeks to deepen global partnerships and commitment to eliminate safe havens for corrupt actors and their criminal proceeds, including in the United States.

The Strategy reflects the idea that corruption, including kleptocracy, cannot thrive without a supportive network of actors who enable and often benefit from such conduct. Activity by these “enablers”—who are often professional service providers—often occurs through opaque legal structures and financial mechanisms. This activity can take many forms, such as supporting corrupt actors in the performance of, benefitting from, evading responsibility for, or laundering the proceeds of corruption.

Collaboration between corrupt public officials and their enablers is pernicious and facilitates the spread of corruption across borders and across sectors. The United States therefore needs to invoke all available legal, policy, diplomatic, economic, and financial tools to deter those who perpetuate corruption, whether they are public officials or private individuals. These tools include authorities to counter money laundering and terrorist financing, as well as targeted financial sanctions—such as those specified in Executive Order 13818 of December 20, 2017 (Blocking the Property of Persons Involved in Serious Human Rights Abuse or Corruption)—which can prevent the flow of corrupt proceeds through United States and international financial systems.

Other existing authorities, including Presidential Proclamation 7750 of January 12, 2004 (To Suspend Entry as Immigrants or Nonimmigrants of Persons Engaged in or Benefiting From Corruption), and the provision commonly included at section 7031(c) of the annual Department of State, Foreign Operations, and Related Programs Appropriations Act (e.g., Public Law 117-328), have allowed the United States Government to deny safe haven to certain corrupt actors by restricting their entry into the United States. However, additional authority is needed to fully address the supporting networks of enablers of corruption, including those who may seek entry into the United States.

NOW, THEREFORE, I, JOSEPH R. BIDEN JR., President of the United States of America, by the authority vested in me by the Constitution and the laws of the United States, including sections 212(f) and 215(a) of the Immigration and Nationality Act, 8 U.S.C. 1182(f) and 1185(a), and section 301 of title 3, United States Code, hereby find that the unrestricted immigrant and nonimmigrant entry into the United States of persons described in section 1 of this proclamation, except as provided for in section 4 of this proclamation, would be detrimental to the interests of the United States, and that their entry should be subject to certain restrictions, limitations, and exceptions. I therefore hereby proclaim the following:

Section 1. Suspension and Limitation on Entry. The entry into the United States, as immigrants or nonimmigrants, of the following persons is hereby suspended:

(a) Persons who have enabled, facilitated, or otherwise been involved in significant corruption, including through the laundering of its proceeds or obstruction of judicial or investigative processes, among other acts; and

(b) The immediate family members of the persons described in subsection (a) of this section.

Sec. 2. Authority of the Secretary of State to Identify Covered Individuals. Persons covered by section 1 of this proclamation shall be identified by the Secretary of State, or the Secretary's designee, in the Secretary's sole discretion, pursuant to such procedures as the Secretary may establish.

Sec. 3. Implementation of Suspension and Limitation on Entry. The Secretary of State shall implement this proclamation as it applies to visas pursuant to such procedures as the Secretary of State, in consultation with the Secretary of Homeland Security, may establish. The Secretary of Homeland Security shall implement this proclamation as it applies to the entry of noncitizens pursuant to such procedures as the Secretary of Homeland Security, in consultation with the Secretary of State, may establish.

Sec. 4. Scope of Suspension and Limitation on Entry. Section 1 of this proclamation shall not apply to:

(a) any lawful permanent resident of the United States;

(b) any individual who has been granted asylum by the United States, any refugee who has already been admitted to the United States, or any individual granted withholding of removal or protection under the Convention Against Torture and Other Cruel, Inhuman or Degrading Treatment or Punishment, and nothing in this proclamation shall be construed to affect any individual's eligibility for asylum, refugee status, withholding of removal, or protection under the Convention Against Torture, consistent with the laws and regulations of the United States; and

(c) any person otherwise covered by section 1 of this proclamation, upon determination by the Secretary of State that the person's entry would not be contrary to the interests of the United States, including when the Secretary of State so determines, based on a recommendation of the Attorney General, that the person's entry would further important United States law enforcement objectives. In exercising this responsibility, the Secretary of State shall consult the Secretary of Homeland Security on matters related to admissibility or inadmissibility within the authority of the Secretary of Homeland Security.

Sec. 5. Termination. This proclamation shall remain in effect until terminated by the President. The Secretary of State shall, as circumstances warrant, recommend whether the President should continue, modify, or terminate this proclamation.

Sec. 6. General Provisions. (a) Nothing in this proclamation shall be construed to impair or otherwise affect:

(i) the authority granted by law to an executive department or agency, or the head thereof; or

(ii) the functions of the Director of the Office of Management and Budget relating to budgetary, administrative, or legislative proposals.

(b) This proclamation shall be implemented consistent with applicable law and subject to the availability of appropriations.

(c) Nothing in this proclamation shall be construed to derogate from United States Government obligations under applicable international agreements, or to suspend entry based solely on a noncitizen's ideology, opinions, or beliefs. Nothing in this proclamation shall be construed to limit the authority of the United States to admit or to suspend the admission or entry of particular individuals into the United States under the Immigration and Nationality Act (8 U.S.C. 1101 et seq.) or under any other provision of United States law.

(d) This proclamation is not intended to, and does not, create any right or benefit, substantive or procedural, enforceable at law or in equity by any party against the United States, its departments, agencies, or entities, its officers, employees, or agents, or any other person.

IN WITNESS WHEREOF, I have hereunto set my hand this eleventh day of December, in the year of our Lord two thousand twenty-three, and of the Independence of the United States of America the two hundred and forty-eighth.

[FR Doc. 2023-27630

Filed 12-13-23; 8:45 am]

Billing code 3395-F4-P